DEPARTMENT OF HOMELAND SECURITY

Coast Guard

33 CFR Part 100

[Docket Number USCG-2025-0023]

RIN 1625-AA08

Special Local Regulation; Duluth Harbor, Duluth, MN

AGENCY: Coast Guard, DHS.

ACTION: Notice of proposed rulemaking.

SUMMARY: The Coast Guard is proposing to establish a temporary special local regulation for designated areas of the Duluth Harbor entrance to Superior Bay on Lake Superior during the Festival of Sail 2025 event in Duluth, MN. This action is necessary to provide for the safety of life on these navigable waters around the port of Duluth, MN during a sail festival with tall ships beginning on July 10, 2025, and ending the evening of July 13, 2025. This proposed rulemaking would prohibit persons and vessels from being in the designated areas unless authorized by the Captain of the Port Duluth or a designated representative. We invite your comments on this proposed rulemaking.

DATES: Comments and related material must be received by the Coast Guard on or before June 5, 2025.

ADDRESSES: You may submit comments identified by docket number USCG-2025-0023 using the Federal Decision-Making Portal at https://www.regulations.gov. See the “Public Participation and Request for Comments” portion of the SUPPLEMENTARY INFORMATION section for further instructions on submitting comments. This notice of proposed rulemaking with its plain-language, 100-word-or-less proposed rule summary will be available in this same docket.

FOR FURTHER INFORMATION CONTACT: If you have questions about this proposed rulemaking, call or email Lieutenant Zachary Fedak, Waterways Management, Marine Safety Unit Duluth, U.S. Coast Guard telephone 218-725-3818, email Zachary.A.Fedak@uscg.mil.

SUPPLEMENTARY INFORMATION:

I. Table of Abbreviations

CFR Code of Federal Regulations

DHS Department of Homeland Security

FR Federal Register

NPRM Notice of proposed rulemaking

§ Section

U.S.C. United States Code

II. Background, Purpose, and Legal Basis

On June 27, 2024, an organization notified the Coast Guard that it will be conducting a Festival of Sail event in Duluth, MN from July 10-July 13, 2025. Hazards from spectator vessels and the limited maneuverability of the sailing vessels exist. The Captain of the Port Duluth (COTP) has determined that potential hazards associated with the parade of sail would be a safety concern for anyone within the route of the parade.

The purpose of this rulemaking is to ensure the safety of vessels and the navigable waters within the parade route before, during, and after the scheduled event, as well as within a more constrained designated area for the duration of the multi-day event and around each vessel. The Coast Guard is proposing this rulemaking under authority in 46 U.S.C. 70041.

III. Discussion of Proposed Rule

The COTP is proposing to establish a temporary special local regulation from 9 a.m. on July 10, 2025 through 9 p.m. on July 13, 2025.

The temporary special local regulation will cover all navigable waters encompassed within the staging area and parade route from 9 a.m. to 2 p.m. on July 10, 2025. This will include all waters of Lake Superior and Duluth Harbor bounded by Rice's Point to the west and Duluth to the north, and then within the following boundaries: beginning at position 46°46′48.36″ N, 092°05′16.44″ W; then across Duluth Harbor and turning north to the Duluth Lift Bridge; then out the Duluth Harbor Entrance; then northwest back to the north Duluth Entrance Light, through the canal, then along Minnesota Point; then entering and encompassing the Minnesota Slip; then back out the slip; and then back to the starting point. Additionally, the special local regulation will cover all waters in which the tall ships will be moored from 9 a.m. on July 10, 2025 through 9 p.m. on July 13, 2025. The zone will cover all waters encompassed by a projection extending out southeast from the dock wall along Harbor Drive and southwest from S Lake Avenue. The regulatory text below provides exact coordinates for the zones. No vessel or person who is not approved prior to the event would be permitted to enter the established zones without obtaining permission from the COTP or a designated representative. The duration of the zones is intended to ensure the safety of vessels and these navigable waters before, during, and after the Parade of Sail on July 10, 2025 until the conclusion of the Festival of Sail on July 13, 2025.

The regulatory text we are proposing appears at the end of this document.

IV. Regulatory Analyses

We developed this proposed rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This NPRM has not been designated a “significant regulatory action” under section 3(f) of Executive Order 12866. Accordingly, the NPRM has not been reviewed by the Office of Management and Budget (OMB).

This regulatory action determination is based on the availability of the Superior Harbor entrance as an alternate entry into Superior Bay, the limited size and short time frame of the special local regulation, and the estimated number of spectator vessels around the Duluth Harbor entrance for the event. The Coast Guard will issue a Broadcast Notice to Mariners via VHF-FM marine channel 16 about the zone, and the rule would allow vessels to seek permission to enter the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the safety zone may be small entities, for the reasons stated in section IV.A above, this proposed rule would not have a significant economic impact on any vessel owner or operator.

If you think that your business, organization, or governmental jurisdiction qualifies as a small entity and that this proposed rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the potential effects of this proposed rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves a special local regulation prohibiting entry within certain zones from 9 a.m. on July 10, 2025, through 9 p.m. on July 13, 2025. Normally such actions are categorically excluded from further review under paragraph L60(a) and L61 of Appendix A, Table 1 of DHS Instruction Manual 023-01-001-01, Rev. 1. A preliminary Record of Environmental Consideration supporting this determination is available in the docket. For instructions on locating the docket, see the ADDRESSES section of this preamble. We seek any comments or information that may lead to the discovery of a significant environmental impact from this proposed rule.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision-Making Portal at https://www.regulations.gov. To do so, go to https://www.regulations.gov, type USCG-2025-0023 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you click on the Dockets tab and then the proposed rule, you should see a “Subscribe” option for email alerts. The option will notify you when comments are posted, or a final rule is published.

We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 100

Harbors, Marine safety, Navigation (water), Reporting and recordkeeping requirements, Security measures, Waterways

For the reasons discussed in the preamble, the Coast Guard is proposing to amend 33 CFR part 100 as follows:

PART 100—SAFETY OF LIFE ON NAVIGABLE WATERS

1. The authority citation for part 100 continues to read as follows:

Authority: 46 U.S.C. 70041; 33 CFR 1.05-1.

2. Add § 100.T09-0023 to read as follows:

§ 100.T09-0023 Special Local Regulations; Festival of Sail Duluth 2025 Parade of Sail, Duluth, MN.

(a) Regulated areas. The following regulated areas are established as a special local regulation. All geographic coordinates are North American Datum of 1983 (NAD 83).

(1) The Parade of Sail Area. All waters of Lake Superior and Duluth Harbor bounded by Rice's Point to the west and Duluth to the north, within the following boundaries: beginning at position 46°46′48.36″ N, 092°05′16.44″ W, across Duluth Harbor to 46°47′02.76″ N, 092°05′17.88″ W, turning north toward the Duluth Lift Bridge to 46°47′19.32″ N, 092°04′04.80″ W, to 46°46′50.88″ N, 092°05′17.88″ W, out the Duluth Harbor Entrance at 46°46′45.12″ N, 092°05′35.16″ W, then northwest to 46°46′45.12″ N, 092°05′39.84″ W, back to the north Duluth Entrance Light at 46°47′01.32″ N, 092°05′51.00″ W, through the canal at 46°47′00.60″ N, 092°05′52.08″ W, then along Minnesota Point at 46°46′51.60″ N, 092°05′46.32″ W, entering Minnesota Slip at 46°46′39.00″ N, 092°06′03.96″ W, encompassing the slip from 46°46′32.16″ N, 092°05′38.76″ W to 46°46′41.52″ N, 092°05′36.24″ W.

(2) The Festival Grounds Area. All waters of Duluth Harbor from starting point 46°46′52.02″ N, 092°05′43.98″ W to 46°46′46.98″ N, 092°05′40.98″ W along the shore; then in a straight line through the water to 46°46′40.02″ N, 092°05′05.40″ W; then in a straight line through the water to the shore to 46°46′43.02″ N, 092°05′57.00″ W; then along the shore to 46°46′52.02″ N, 092°05′46.02″ W; then in a straight line through the water back to the starting point.

(b) Definitions. As used in this section—

Designated representative means a Coast Guard Patrol Commander, including a Coast Guard coxswain, petty officer, or other officer operating a Coast Guard vessel and a Federal, State, and local officer designated by or assisting the Captain of the Port Duluth (COTP) in the enforcement of the regulations in this section.

Participant means all persons and vessels registered with the event sponsor as a participant in the Festival of Sail.

(c) Regulations. (1) All non-participants are prohibited from entering, transiting through, anchoring in, or remaining within the regulated area described in paragraph (a)(1) and (2) of this section unless authorized by the Captain of the Port (COTP) Duluth or their designated representative.

(2) To seek permission to enter, contact the COTP or the COTP's representative by VHF radio on channel 16. Those in the regulated area must comply with all lawful orders or directions given to them by the COTP or the designated representative.

(3) The COTP will provide notice of the regulated area through advanced notice via Local Notice to Mariners and Broadcast Notice to Mariners. Notice will also be provided by on-scene designated representatives.

(4) Vessels and persons receiving COTP Duluth or on-scene representative authorization to enter the area of this special local regulation must do so in accordance with the following restrictions:

i. Vessels and persons must transit at a speed not to exceed six (6) knots or at no wake speed, whichever is less. Vessels proceeding under sail will not be allowed in this Area unless also propelled by machinery, due to limited maneuvering ability around numerous other spectator craft viewing the Festival of Sail.

ii. Vessels and persons will not be permitted to impede the Parade of Sail area from 9 a.m. through 2 p.m. on July 10, 2025, once it has commenced, as the tall ships are extremely limited in their ability to maneuver.

(d) Enforcement period. The Festival Grounds Area will be enforced from 9 a.m. on July 10, 2025, through 9 p.m. on July 13, 2025. The Parade of Sail Area will be enforced from 9 a.m. through 2 p.m. on July 10, 2025.

J.P. Botti,
Commander, U.S. Coast Guard, Captain of the Port Duluth.

[FR Doc. 2025-09149 Filed 5-20-25; 8:45 am]

BILLING CODE 9110-04-P